DEPARTMENT OF TRANSPORTATION

National Highway Traffic Safety Administration

49 CFR Parts 573, 577 and 579

[Docket No. NHTSA-2007-27356; Notice 1]

Defect and Noncompliance Notification, Reports, and Responsibility; Reporting of Information and Documents Concerning Potential Defects

AGENCY: National Highway Traffic Safety Administration, DOT.

ACTION: Final rule; Changes of address and other administrative adjustments.

SUMMARY: This final rule contains administrative adjustments to part 573, Defect and Noncompliance Responsibility and Reports; part 577, Defect and Noncompliance Notification; and part 579, Reporting of Information and Communications about Potential Defects, of Title 49 of the CFR. Specifically, we are updating and/or supplementing the mailing and address information found in some sections, and correcting erroneous references found in other sections. We are also moving one paragraph of part 573, requiring submission of draft owner notification letters to NHTSA, to another paragraph found in part 577 that addresses the content of owner notification letters, where that paragraph more logically fits. None of these amendments impose or relax any substantive requirements or burdens on manufacturers.

DATES: This final rule is effective July 11, 2007.

FOR FURTHER INFORMATION CONTACT: Jennifer T. Timian, Office of Defects Investigation (NVS-215), NHTSA, 1200 New Jersey Avenue, SE., Washington, DC, 20590, telephone (202) 366-0209.

SUPPLEMENTARY INFORMATION:

Reasons for the Technical Amendments

In various sections of parts 573 and 577 of Title 49 of the Code of Federal Regulations (CFR), manufacturers are required to report information, submit documentation, and engage in specific activities if a motor vehicle or an item of motor vehicle equipment they manufactured contains a safety defect or fails to comply with a Federal Motor Vehicle Safety Standard (FMVSS). Pursuant to part 579 of that same title, manufacturers are also required to report what is termed early warning information, including information concerning claims, deaths, and injuries, which is gathered to detect possible safety-related defects in particular motor vehicles and items of motor vehicle equipment.

Depending on the particular section in question, manufacturers are required to address their submissions to certain offices at NHTSA's headquarters, and/or to particular e-mail addresses linked to those particular offices. The Department of Transportation, including NHTSA, is in the process of relocating its headquarters. The NHTSA offices affected by this notice moved to the new headquarters on May 31, 2007. Therefore, administrative adjustments are necessary to update the mailing address information in some sections.

We are also taking the opportunity through this final rule to supplement other mailing and address information found in some sections, correct errors found in other sections, and relocate one paragraph whose subject matter is more appropriate to another paragraph. As one example, we are amending the address for mailed defect and noncompliance notifications for safety recalls as well as for other submissions concerning those recalls, and including a new e-mail address, so that important safety information is routed directly to those in NHTSA responsible for reviewing and processing it. Similarly, we are amending the mailing address and updating the e-mail addresses for mailed early warning reporting submissions so that information concerning potential safety defects is routed directly to those in NHTSA responsible for reviewing and processing this information.

The Administrative Procedure Act, 5 U.S.C. 553, generally requires an agency to provide notice and an opportunity for comment before issuing a final rule. However, under 5 U.S.C. 553(b)(3)(A), notice and comment are not required for rules of agency organization, procedure, or practice. Nearly all of the changes made by this notice concern where and how to submit information to NHTSA in light of the agency's move to its new headquarters and are, therefore, related to NHTSA's organization. In addition, under 5 U.S.C. 553(b)(3)(B), an agency may issue a rule without notice and comment when it finds, for good cause, that notice and comment would be impracticable, unnecessary, or contrary to the public interest. None of the changes made today will impose or relax any substantive requirements or burdens on manufacturers.¹ These administrative adjustments, however, will provide to entities that are currently required to submit information to NHTSA the best methods of ensuring proper delivery of that information. Moreover, these amendments will enable the agency to process and manage important safety-related information in a more expeditious fashion. Because these amendments merely inform the public of proper mailing addresses and mail routing codes, move a paragraph concerning a required submission to its more logical location so that it can be more easily found, and correct erroneous information (such as outmoded titles for agency officials), public comment on the changes would serve no purpose. Moreover, allowing time for such comment in light of the agency's imminent move to its new headquarters would be contrary to the public interest because it could result in important safety-related submissions going astray. Accordingly, NHTSA finds for good cause that any notice and opportunity for comment on these administrative adjustments is not necessary.

¹ We note, for one example, that none of the administrative adjustments made by today's final rule supersedes the requirement in 49 U.S.C. 30118(c) that manufacturers notify NHTSA by certified mail when they learn a product they manufacture contains a safety defect or does not comply with a FMVSS. In this context, certified mail includes such services as the United States Postal Service or private carriers offer. This is a statutory directive and one that we do not have the authority to modify. For the reader's convenience, we have added a reference to it in the rule text. However, in order to assist the agency in most efficiently processing this information, we continue to permit submission of additional copies of these notifications (commonly referred to as defect or noncompliance information reports) via e-mail to RMD.ODI@dot.gov, or any other means by which a manufacturer may choose to expeditiously provide this information.

The regulatory parts and sections that are amended by today's final rule are identified below.

The Changes of Address and Other Administrative Adjustments

The Department of Transportation's headquarters, including NHTSA, is in the process of relocating from 400 7th Street address to its new location at 1200 New Jersey Avenue, SE., Washington, DC, 20590. Accordingly, we are changing the address information provided in the following regulatory sections or paragraphs that contain obsolete street address information: 49 CFR 573.10(a), Reporting the sale or lease of defective or noncompliant tires; 49 CFR 577.5(g)(1)(vii), Notification pursuant to a manufacturer's decision; 49 CFR 579.6, Address for submitting reports and other information; and 49 CFR 579.29(f), Manner of reporting. In addition, we are adding the new street address to 49 CFR 573.9, Address for submitting required reports and other information, which did contain some address information, but not a street address.

We are adding references to the Recall Management Division and its mail routing code (NVS-215) to 49 CFR 573.9, Address for submitting required reports and other information, paragraph (c)(10) of 49 CFR 573.6, Defect and noncompliance information report, and paragraph (a) of 49 CFR 577.5, Notification pursuant to a manufacturer's decision. In 49 CFR 573.9, we are also adding an e-mail address for that division—RMD.ODI@dot.gov. The Recall Management Division (RMD) is the group within NHTSA's Office of Defects Investigation (ODI) that is responsible for receiving, processing, and managing recall-related information. Each of these changes will, therefore, provide the fastest delivery of this information once the information arrives at the Department's building or, in the case of e-mailed information, instantaneous delivery.²

² All e-mailed submissions are more readily handled if placed into a portable document format (.pdf). Unlike other software, this format permits the agency to directly upload the information into its electronic system for collecting and managing this information.

For similar reasons, we are adding a reference to the Early Warning Division and its mail routing code (NVS-217) to paragraph (a) of 49 CFR 579.5, Notices, bulletins, customer satisfaction campaigns, consumer advisories, and other communications, and paragraph (f) of 49 CFR 579.29, Manner of reporting. The Early Warning Division is the group within ODI responsible for receiving, processing, and managing the early warning information manufacturers submit. This change in addressee information will allow for the fastest delivery of this information once it arrives at the Department's building. We are also updating the e-mail address information found in 49 CFR 579.6(a), Address for submitting reports and other information. Specifically, we are changing the address foreign_recalls@nhtsa.dot.gov to frecalls@dot.gov, and the address tsb@nhtsa.dot.gov to tsb@dot.gov. These changes reflect the Department's effort to truncate e-mail addresses where possible.

In § 573.6(c)(10), we are striking the reference about how to submit notifications required by part 577; that part amply explains how submissions made under it are to be made. In its place, we added language clarifying that manufacturers may submit representative copies of communications concerning a safety defect or noncompliance by any means of their choosing, so long as that means permits the manufacturer to verify promptly that the copy was in fact received by the Recall Management Division and the date it was received by that division.

In addition to the above, we are deleting the text of current 49 CFR 573.6(c)(11) and moving it to paragraph (a) of 49 CFR 577.5, Notification pursuant to a manufacturer's decision, where it more logically belongs. Part 573 concerns defect and noncompliance responsibility and reports submitted by manufacturers to NHTSA, while part 577 primarily concerns notifications by manufacturers to vehicle and equipment owners. Current 49 CFR 573.6(c)(11) contains the requirement that manufacturers submit a proposed owner notification letter to NHTSA at least five days before the manufacturer plans to mail notifications to owners and purchasers. Paragraph 49 CFR 577.5(a) dictates the content of those notifications and also requires manufacturers to submit a copy of the envelope in which they intend to mail the notifications (unless the format of the envelope has been previously approved). Given the correlation of subject matter in the two paragraphs, the merging of the one into the other is appropriate. We think that placing the requirement to submit a draft owner notification letter to NHTSA in the same paragraph as the requirements for what should be in such a letter will aid manufacturers in locating the requirement and avoid confusion about such a letter's required content. Accordingly, several sentences in 577.5(a) are being reorganized and reworded in order to accommodate this merger. Manufacturers should note that this merger does not change the present requirement that proposed owner notifications and their envelopes be submitted to NHTSA (and now, more specifically, the Recall Management Division (NVS-215)) no fewer than five business days before mailing to owners begins. Nor does this merger change the requirement that these submissions be made by any means that permits the manufacturer to verify that its submission was received and the date it was received.

The deletion of the current text in 49 CFR 573.6(c)(11) will necessitate the moving up of the regulatory text found in the paragraphs following that paragraph so as not to leave a numbering gap between the paragraphs. Therefore, the regulatory text presently in paragraph 573.6(c)(12) is being moved up and placed into paragraph 573.6(c)(11).

We are further correcting the addressee information found in paragraph (a) of 49 CFR 573.10, Reporting the sale or lease of defective or noncompliant tires, from the “Associate Administrator for Safety Assurance,” to the “Associate Administrator for Enforcement.” This change would reflect the Associate Administrator's present title. We are also replacing, for purposes of grammatical precision, the pronoun “which” with “that” in the paragraph.

We are further amending 49 CFR 577.5(a) first to strike the reference to “§ 573.6(c)(9)” in that paragraph, as the reference to requirements for submission of draft owner notifications is no longer applicable because those requirements will now be found in the body of paragraph 577.5(a). Second, we are making the paragraph's regulatory text more gender-neutral by striking the references to “him” and “he,” and replacing those terms with “the manufacturer.” Third, and for purposes of grammatical precision, we are replacing the pronoun “which” with “that” where appropriate. Fourth, and for purposes of clarity, we are adding the words “the notification” between “mailing” and “to owners” in the second to last sentence of the paragraph.

In 49 CFR 579.5(a), Notices, bulletins, customer satisfaction campaigns, consumer advisories, and other communications, we are correcting the incorrect reference to “§ 573.6(c)(9).” Under the current text, a reader would be led to believe that paragraph 49 CFR 573.6(c)(9) requires the submission of certain safety recall-related communications. That requirement, however, is found in paragraph 49 CFR 573.6(c)(10), and not 573.6(c)(9).

List of Subjects in 49 CFR Parts 573, 577, and 579

Defects, Motor vehicle safety, Noncompliance, Reporting and recordkeeping requirements, Tires.

For the reasons stated in the preamble, the following amendments are made to 49 CFR parts 573, 577, and 579:

PART 573—DEFECT AND NONCOMPLIANCE RESPONSIBILITY AND REPORTS

1. The authority citation for part 573 is revised to read as follows:

Authority: 49 U.S.C. 30102, 30103, 30116-30121, 30166; delegation of authority at 49 CFR 1.50 and 49 CFR 501.8.

2. Section 573.6 is amended by revising paragraph (c)(10), removing paragraph (c)(11), redesignating paragraph (c)(12) as (c)(11) and revising newly redesignated paragraph (c)(11) to read as follows:

§ 573.6 Defect and noncompliance responsibility.

* * * * *

(c) * * *

(10) A representative copy of all notices, bulletins, and other communications that relate directly to the defect or noncompliance and are sent to more than one manufacturer, distributor, dealer or purchaser. These copies shall be submitted to NHTSA's Recall Management Division (NVS-215) (RMD), not later than 5 days after they are initially sent to manufacturers, distributors, dealers, or purchasers. Submission shall be made by any means, including those means identified in § 573.9 of this part, which permits the manufacturer to verify promptly that the copy was in fact received by RMD and the date it was received by RMD.

(11) The manufacturer's campaign number, if not identical to the identification number assigned by NHTSA.

3. Section 573.9 is revised to read as follows:

§ 573.9 Address for submitting required reports and other information.

All submissions, except as otherwise required by this part, shall be addressed to the Associate Administrator for Enforcement, National Highway Traffic Safety Administration, Attention: Recall Management Division (NVS-215), 1200 New Jersey Avenue, SE., Washington, DC 20590. These submissions may be submitted as an attachment to an e-mail message to RMD.ODI@dot.gov in a portable document format (.pdf). Whether or not they are also submitted electronically, defect or noncompliance reports required by section 573.6 of this part must be submitted by certified mail in accordance with 49 U.S.C. 30118(c).

4. Section 573.10 is amended by revising paragraph (a) to read as follows:

§ 573.10 Reporting the sale or lease of defective or noncompliant tires.

(a) Reporting requirement. Subject to paragraph (b) of this section, any person who knowingly and willfully sells or leases for use on a motor vehicle a defective tire or a tire that is not compliant with an applicable tire safety standard with actual knowledge that the manufacturer of such tire has notified its dealers of such defect or noncompliance as required under 49 U.S.C. 30118(c) or as required by an order under 49 U.S.C. 30118(b) must report that sale or lease to the Associate Administrator for Enforcement, NHTSA, 1200 New Jersey Ave., SE., Washington, DC 20590.

* * * * *

PART 577—DEFECT AND NONCOMPLIANCE NOTIFICATION

1. The authority citation for part 577 continues to read as follows:

Authority: 49 U.S.C. 30102, 30103, 30116-30121, 30166; delegation of authority at 49 CFR 1.50 and 49 CFR 501.8.

2. Section 577.5 is amended by revising paragraphs (a) and (g)(1)(vii) introductory text to read as follows:

§ 577.5 Notification pursuant to a manufacturer's decision.

(a) When a manufacturer of motor vehicles or replacement equipment determines that any motor vehicle or item of replacement equipment produced by the manufacturer contains a defect that relates to motor vehicle safety, or fails to conform to an applicable Federal motor vehicle safety standard, the manufacturer shall provide notification in accordance with paragraph (a) of § 577.7, unless the manufacturer is exempted by the Administrator (pursuant to 49 U.S.C. 30118(d) or 30120(h)) from giving such notification. The notification shall contain the information specified in this section. The information required by paragraphs (b) and (c) of this section shall be presented in the form and order specified. The information required by paragraphs (d) through (h) of this section may be presented in any order. Except as authorized by the Administrator, the manufacturer shall submit a copy of its proposed owner notification letter, including any provisions or attachments related to reimbursement, to NHTSA's Recall Management Division (NVS-215) no fewer than five Federal Government business days before it intends to begin mailing it to owners. The manufacturer shall mark the outside of each envelope in which it sends an owner notification letter with a notation that includes the words “SAFETY,” “RECALL,” and “NOTICE,” all in capital letters and in type that is larger than that used in the address section, and is also distinguishable from the other type in a manner other than size. Except where the format of the envelope has been previously approved by NHTSA's Recall Management Division (NVS-215), each manufacturer must submit the envelope format it intends to use to that division at least five Federal Government business days before mailing the notification to owners. Submission of envelopes and proposed owner notification letters shall be made by any means, including those means identified in 49 CFR 573.9, that permits the manufacturer to verify receipt promptly by the Recall Management Division and the date it was received by that division. Notification sent to an owner whose address is in either the Commonwealth of Puerto Rico or the Canal Zone shall be written in both English and Spanish.

* * * * *

(g) * * *

(1) * * *

(vii) A statement informing the owner that he or she may submit a complaint to the Administrator, National Highway Traffic Safety Administration, 1200 New Jersey Ave., SE., Washington, DC 20590; or call the toll-free Vehicle Safety Hotline at 1-888-327-4236 (TTY: 1-800-424-9153); or go to http://www.safercar.gov, if the owner believes that:

* * * * *

PART 579—REPORTING OF INFORMATION AND COMMUNICATIONS ABOUT POTENTIAL DEFECTS

1. The authority citation for part 579 is revised to read as follows:

Authority: 49 U.S.C. 30102-103, 30112, 30117-121, 30166-167; delegation of authority at 49 CFR 1.50 and 49 CFR 501.8.

2. Section 579.5 is amended by revising paragraph (a) to read as follows:

§ 579.5 Notices, bulletins, customer satisfaction campaigns, consumer advisories, and other communications.

(a) Each manufacturer shall furnish to NHTSA's Early Warning Division (NVS-217) a copy of all notices, bulletins, and other communications (including those transmitted by computer, telefax, or other electronic means and including warranty and policy extension communiqués and product improvement bulletins) other than those required to be submitted pursuant to § 573.6(c)(10) of this chapter, sent to more than one manufacturer, distributor, dealer, lessor, lessee, owner, or purchaser, in the United States, regarding any defect in its vehicles or items of equipment (including any failure or malfunction beyond normal deterioration in use, or any failure of performance, or any flaw or unintended deviation from design specifications), whether or not such defect is safety-related.

* * * * *

3. Section 579.6 is amended by revising paragraph (a) to read as follows:

§ 579.6 Address for submitting reports and other information.

(a) Except as provided by paragraph (b) of this section, information, reports, and documents required to be submitted to NHTSA pursuant to this part may be submitted by mail, by facsimile, or by e-mail. If submitted by mail, they must be addressed to the Associate Administrator for Enforcement, National Highway Traffic Safety Administration, Attention: Early Warning Division (NVS-217), 1200 New Jersey Avenue, SE., Washington, DC 20590. If submitted by facsimile, they must be addressed to the Associate Administrator for Enforcement and transmitted to (202) 366-7882. If submitted by e-mail, submissions under subpart B of this part must be submitted to frecalls@dot.gov and submissions under § 579.5 must be submitted to tsb@dot.gov.

* * * * *

4. Section 579.29 is amended by revising paragraph (f) to read as follows:

§ 579.29 Manner of reporting.

* * * * *

(f) Information and requests submitted under paragraphs (c), (d), and (e) of this section shall be provided in writing to the Director, Office of Defects Investigation, NHTSA, Attention: Early Warning Division (NVS-217), 1200 New Jersey Avenue, SE., Washington, DC 20590.

Issued on: June 5, 2007.
Ronald L. Medford,
Senior Associate Administrator for Vehicle Safety.

[FR Doc. E7-11119 Filed 6-8-07; 8:45 am]

BILLING CODE 4910-59-P